DEPARTMENT OF ENERGY

Office of Energy Efficiency and Renewable Energy

Superconductivity Program for Electric Power Systems

AGENCY: Golden Field Office, Office of Energy Efficiency and Renewable Energy, Department of Energy (DOE).

ACTION: Supplemental Announcement 05 to the Fiscal Year 2001 Broad Based Solicitation for Submission of Financial Assistance Applications Involving Research, Development and Demonstration for the Office of Energy Efficiency and Renewable Energy, DE-PS36-01GO90000.

SUMMARY: The U.S. Department of Energy, pursuant to the DOE Financial Assistance Rules, 10 CFR 600.8, is announcing its intention to solicit applications for the DOE Superconductivity Partnership Initiative (SPI) Program. The selected applicants will receive financial assistance under a cooperative agreement with DOE.

DATES: Supplemental Announcement 05 will be issued February 9, 2001.

ADDRESSES: To obtain a copy of Supplemental Announcement 05 once it is issued, interested parties must access the Golden Field Office Application, Award and Solicitation page at http://www.golden.doe.gov/businessopportunities.html, click on “solicitations” and then locate Supplemental Announcement 05. DOE does not intend to issue written copies of the Supplemental Announcement.

SUPPLEMENTARY INFORMATION: DOE Office of Energy Efficiency and Renewable Energy, (EERE) is pursuing, through the issuance of this Supplemental Announcement, the development of a wide range of electric power and industrial equipment, incorporating significant high temperature superconductive (HTS) components or sub-systems through its Superconductivity Program. A minimum cost share of 50% of the total project cost is required for an Application to be considered for award under this Supplemental Announcement. DOE intends that its industry partners will be vertically integrated teams composed of equipment manufacturers, HTS wire and coil suppliers, component suppliers, and end users (primarily utilities). Applicant teams may avail themselves of the technical expertise and capabilities of the DOE National Laboratories via a Cooperative Research and Development Agreement. A laboratory could contribute specialized capabilities, facilities, or equipment to the project that would complement the partnership's needs. These teams would carry out the multi-year technology developmental efforts, consisting of design, construction, installation and testing phases. DOE anticipates that awards will be made to teams for projects ranging in size from hundreds of thousands of dollars to several million dollars per year and for project periods of up to four years. Subject to the availability of funds, it is anticipated that the DOE funding share for these efforts will be no more than $5.5 million in the first year, and no more than $9 million for each of the following 3 years. Awards under this Supplemental Announcement will be cost-shared cooperative agreements between DOE and the prime of the industry-led team. Supplemental Announcement 05 will include complete information on the program including technical aspects, funding, application preparation instructions, application evaluation criteria, and other factors that will be considered when selecting applications for funding. No pre-application conference is planned.

FOR FURTHER INFORMATION CONTACT: James McDermott, Contract Specialist, at 303-275-4732, e-mail jim_mcdermott@nrel.gov. Responses to questions will be made by amendment to the Supplemental Announcement and will be posted on the DOE Golden Field Office Home Page listed above.

Issued in Golden, Colorado on February 5, 2001.
Jerry Zimmer,
Director, Office of Acquisition and Financial Assistance.

[FR Doc. 01-4001 Filed 2-15-01; 8:45 am]

BILLING CODE 6450-01-P